GENERAL ACCOUNTING OFFICE

Appointments to the Medicare Payment Advisory Commission

AGENCY: General Accounting Office (GAO).

ACTION: Notice of appointments.

SUMMARY: The Balanced Budget Act of 1997 established the Medicare Payment Advisory Commission (MedPAC) and gave the Comptroller General responsibility for appointing its members. This notice announces three new appointments and three reappointments to fill the vacancies occurring this year, and designates the Chair and Vice Chair of the Commission.

DATES: Appointments are effective May 1, 2001 through April 30, 2004.

ADDRESSES: GAO: 441 G Street, NW, Washington, DC 20548; MedPAC: 1730 K Street, NW, Suite 800, Washington, DC 20006.

FOR FURTHER INFORMATION CONTACT: GAO: Molly Ryan, 202/512-3592; MedPAC: Murray N. Ross, Ph.D., 202/653-7220.

SUPPLEMENTARY INFORMATION: To fill this year's vacancies I am announcing the following:

Newly appointed members are Sheila P. Burke, Under Secretary for American Museums and National Programs, Smithsonian Institution; Allen D. Feezor, Health Benefits Administrator, California Public Employees' Retirement System; and Ralph W. Muller, President and CEO, University of Chicago Hospitals and Health System; reappointed members are Joseph P. Newhouse, Ph.D., John D. MacArthur Professor of Health Policy and Management, Harvard University; Alice F. Rosenblatt, Senior Vice President, Merger and Acquisition Integration, Wellpoint Health Networks; and John W. Rowe, M.D., Chairman, CEO, and President, Aetna Inc. I also hereby name Glenn M. Hackbarth, J.D., an independent consultant, as Chair of the Commission; and Robert D. Reischauer, Ph.D., President of the Urban Institute, as Vice Chair.

(Sec. 4022, Pub. L. 105-33, 111 Stat. 251, 350)

David M. Walker,
Comptroller General of the United States.

[FR Doc. 01-13445 Filed 5-29-01; 8:45 am]

BILLING CODE 1610-02-M